DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 13, 2000.

Interested persons are invited to submit written comments regarding the subject matter of the investigations to the Director, Division of Trade Adjustment Assistance, at the address shown below, not later than November 13, 2000.

The petitions filed in this case are available for inspection at the Office of the Director, Division of Trade Adjustment Assistance, Employment and Training Administration, U.S. Department of Labor, Room C-5311, 200 Constitution Avenue, NW., Washington, DC 20210.

Signed at Washington, D.C. this 16th day of October, 2000.
Edward A. Tomchick,
Director, Division of Trade Adjustment Assistance.

Appendix
[Petitions instituted on 10/16/2000]
TA-W | Subject firm (petitioners) | Location | Date of petition | Product(s)
38,197 | Grandoe Corp. (The) (UNITE) | Gloversville, NY | 09/29/2000 | Leather Gloves.
38,198 | Crown Cork and Seal Co (UFCW) | Perrysburg, OH | 10/03/2000 | Steel Cans and Steel Ends.
38,199 | Uniscribe (Wrks) | Wheeling, WV | 09/29/2000 | Computer Date Entry.
38,200 | M. Fine and Son Mfg (Wrks) | Loretto, TN | 09/27/2000 | Men's Boys, and Ladies' Blue Jeans.
38,201 | Tyco Electronics (Comp) | Clinton Twp., MI | 09/28/2000 | Electronic Connectors.
38,202 | Creighton, Inc. (Wrks) | Reidsville, NC | 09/29/2000 | Military Uniforms.
38,203 | Anchor Glass Containers (Comp) | Dayville, CT | 10/02/2000 | Glass Containers.
38,204 | Willamette Industries (WCIW) | Albany, OR | 10/02/2000 | Mouldings—Cabinets, Doors, Windows.
38,205 | Crater Lake Potato (Wrks) | Klamath Falls, OR | 09/28/2000 | Potatoes.
38,206 | Brown Wooten Mills, Inc (Comp) | Mount Airy, NC | 10/04/2000 | Socks.
38,207 | Byrum Concepts, Inc. (Comp) | Lubbock, TX | 09/28/2000 | Bath Sponges.
38,208 | Parana Supplies Corp (Comp) | El Paso, TX | 10/09/2000 | Ribbon Cartdriges for Printers.
38,209 | Chieftain Products (Wrks) | Marine City, MI | 09/21/2000 | Mini Van Seat Covers.
38,210 | Chilton Toys (PACE) | Seymour, WI | 09/26/2000 | Tea Sets for Children.
38,211 | ADM Milling Co. (IBT) | Milwaukee, WI | 09/26/2000 | Milled Corn Products.
38,212 | Echo Bay Minerals Co (Comp) | Republic, WA | 09/22/2000 | Gold/Silver Compound.
38,213 | GE Industrial Systems (Wrks) | Erie, PA | 09/26/2000 | DC Motors and Component Parts.
38,214 | Fleetwood Homes of Ga (Wrks) | Douglas, GA | 09/25/2000 | Homes.
38,215 | EPSG Pixpay Services (Wrks) | Burbank, CA | 09/28/2000 | Film Production.
38,216 | Samsonite Corp (Comp) | Tucson, AZ | 09/29/2000 | Softside Luggage.
38,217 | Union Pacific Resources (Comp) | Fort Worth, TX | 10/03/2000 | Exploration and Prod. Oil and Gas.
38,218 | Swift Denim (Comp.) | Erwin, NC | 10/05/2000 | Denim Fabric.
38,219 | C and M Corp (Wrks) | Wauregan, CT | 09/29/2000 | Cable Assemblies.
38,220 | Avery Dennison (Comp) | Crossville, TN | 09/29/2000 | Markers and Hi-Liters Highlighters..
38,221 | Outer Banks (Comp) | Lumberton, NC | 10/03/2000 | Automatic Pocket Setting Machine.
38,222 | Whatman, Inc. (Wrks) | Clifton, NJ | 10/02/2000 | Microfiltration.
38,223 | GE Capital Card Services (Wrks) | Cincinnati, OHD | 10/02/2000 | Credit Collection Call Center.
38,224 | Utica Cutlery Co. (USWA) | Utica, NY | 10/04/2000 | Stainless Steel Flatware.
38,225 | Alcoa Fujikura Ltd (Comp) | Shelbyville, KY | 10/06/2000 | Wire Harnesses.
38,226 | Stimson Lumber Co (LPIW) | Bonner, MT | 10/04/2000 | Plywood and Veneer Products.

[FR Doc. 00-28241 Filed 11-2-00; 8:45 am]

BILLING CODE 4510-30-M